DEPARTMENT OF THE TREASURY

Fiscal Service

31 CFR Part 215

RIN 1510-AB06

Withholding of District of Columbia, State, City and County Income or Employment Taxes by Federal Agencies

Correction

In rule document 06-238 beginning on page 2149 in the issue of Friday, January 13, 2006, make the following correction:

PART 215—[CORRECTED]

On page 2150, in the first column, after the part heading, amendatory instruction “1. The table of contents for part 215 is revised to read as follows:” should read “1. The authority citation for part 215 is revised to read as follows:”.

[FR Doc. C6-238 Filed 2-1-06; 8:45 am]

BILLING CODE 1505-01-D